DEPARTMENT OF ENERGY

Federal Energy Regulatory Commission

[Project No. 15229-001]

Alabama Power Company; Notice of Effectiveness of Withdrawal of Notice of Intent

On April 14, 2023, Alabama Power Company (Alabama Power) filed a Notice of Intent (NOI) for the proposed 1,600-megawatt Chandler Mountain Pumped Storage Project. The project would have been located on Little Canoe Creek East and Chandler Mountain in Etowah and St. Clair Counties, near the town of Steele, Alabama. On August 17, 2023, Alabama Power filed a notice of withdrawal of the NOI for the above-referenced project.

No motion in opposition to the notice of withdrawal has been filed, and the Commission has taken no action to disallow the withdrawal. Pursuant to Rule 216(b) of the Commission's Rules of Practice and Procedure,¹ the withdrawal of the NOI became effective on September 1, 2023, and this prefiling process is hereby terminated.

¹ 18 CFR 385.216(b) (2022).

Dated: September 5, 2023.
Kimberly D. Bose,
Secretary.

[FR Doc. 2023-19570 Filed 9-11-23; 8:45 am]

BILLING CODE 6717-01-P